INTERNATIONAL TRADE COMMISSION

[Investigations Nos. 731-TA-1054 and 1055 (Final)]

Light-Walled Rectangular Pipe and Tube From Mexico and Turkey

Determinations

On the basis of the record¹ developed in the subject investigations, the United States International Trade Commission (Commission) determines, pursuant to section 735(b) of the Tariff Act of 1930 (19 U.S.C. 1673(b)) (the Act), that an industry in the United States is not materially injured or threatened with material injury, and the establishment of an industry in the United States is not materially retarded, by reason of imports from Mexico and Turkey of light-walled rectangular (“LWR”) pipe and tube, provided for in subheading 7306.60.50 of the Harmonized Tariff Schedule of the United States, that have been found by the Department of Commerce (Commerce) to be sold in the United States at less than fair value (LTFV).

¹ The record is defined in sec. 207.2(f) of the Commission's Rules of Practice and Procedure (19 CFR 207.2(f)).

Background

The Commission instituted these investigations effective September 9, 2003, following receipt of a petition filed with the Commission and Commerce by California Steel and Tube, City of Industry, CA; Hannibal Industries, Los Angeles, CA; Leavitt Tube Co., Chicago, IL; Maruichi American Corp., Santa Fe Springs, CA; Northwest Pipe Co., Portland, OR; Searing Industries, Inc., Rancho Cucamonga, CA; Vest, Inc., Los Angeles, CA; and Western Tube and Conduit Corp., Long Beach, CA. The final phase of the investigations was scheduled by the Commission following notification of preliminary determinations by Commerce that imports of LWR pipe and tube from Mexico and Turkey were being sold at LTFV within the meaning of section 733(b) of the Act (19 U.S.C. 1673b(b)). Notice of the scheduling of the final phase of the Commissions investigations and of a public hearing to be held in connection therewith was given by posting copies of the notice in the Office of the Secretary, U.S. International Trade Commission, Washington, DC, and by publishing the notice in the Federal Register of April 23, 2004 (69 FR 22093). The hearing was held in Washington, DC, on August 31, 2004, and all persons who requested the opportunity were permitted to appear in person or by counsel.

The Commission transmitted its determinations in these investigations to the Secretary of Commerce on October 12, 2004. The views of the Commission are contained in USITC Publication 3728 (October 2004), entitled Light-Walled Rectangular Pipe and Tube From Mexico and Turkey: Investigations Nos. 731-TA-1054 and 1055 (Final).

By order of the Commission.
Issued: October 22, 2004.
Marilyn R. Abbott,
Secretary.

[FR Doc. 04-24074 Filed 10-27-04; 8:45 am]

BILLING CODE 7020-02-M